DEPARTMENT OF TRANSPORTATION

Pipeline and Hazardous Materials Safety Administration

[Docket Number: PHMSA-04-18938]

Request for Public Comments and Office of Management and Budget Approval of a Change to an Existing Information Collection (2137-0604, 2137-0605, and 2137-0610)

AGENCY: Pipeline and Hazardous Materials Safety Administration (PHMSA), U.S. Department of Transportation (DOT).

ACTION: Notice and request for comments.

SUMMARY: In compliance with the Paperwork Reduction Act of 1995 (PRA), this notice announces that PHMSA forwarded an Information Collection Request to the Office of Management and Budget (OMB) for a change to an existing information collection for pipeline integrity management (IM). The purpose of this notice is to allow the public an additional 30 days to submit comments.

DATES: Submit comments on or before August 16, 2007.

ADDRESSES: Send comments directly to the Office Management and Budget, Office of Regulatory Affairs, Attn: Desk Officer for the Department of Transportation, 726 Jackson Place, NW., Washington, DC 20503.

FOR FURTHER INFORMATION CONTACT: Mike Israni by phone at (202) 366-4571 or by e-mail at: mike.israni@dot.gov.

SUPPLEMENTARY INFORMATION: PHMSA's IM regulations require operators of hazardous liquid and gas transmission pipelines to assess, evaluate, repair, and validate through comprehensive analyses the integrity of pipeline segments in high consequence areas where a leak or failure would do the most damage to populated, unusually sensitive environmental areas, and other populated areas. These regulations also require operators who cannot meet their evaluation schedules to notify PHMSA when temporarily reducing operating pressure or shutting down their pipelines. This change adds a requirement for operators to also notify PHMSA if pressure reductions exceed 365 days.

PHMSA published a notice of proposed rulemaking (NPRM) on December 15, 2005 (70 FR 74265) requesting comments on a change to these existing information collections.

PHMSA received comments from 12 parties: American Petroleum Institute and Association of Oil Pipe Lines; the American Gas Association; Texas Pipeline Association; Kinder Morgan Energy Partners, L.P.; Southwest Gas Corporation; Paiute Pipeline Company; Orange and Rockland Utilities, Inc.; Duke Energy Gas Transmission Corporation; Magellan Midstream Partners, L.P.; Panhandle Energy; Puget Sound Energy; and Enbridge Energy Company, Inc.—Liquids Transportation Segment.

Pursuant to 44 U.S.C. 3506(c)(2)(A) of the PRA, PHMSA will include the comments in the request for OMB's clearance of this information collection. PHMSA is now forwarding the collection of information request to OMB and providing an additional 30 days for comments. PHMSA is inviting comments on whether the proposed information collection is necessary for the proper performance of the functions of DOT. The term “information collection” includes all work related to preparing and disseminating information in accordance with recordkeeping requirements. The comments should address (1) whether the information will have practical utility; (2) the accuracy of the Department's estimate of the burden of the proposed information collection; (3) ways to enhance the quality, utility, and clarity of the information collection; and (4) ways to minimize the information collection burden on respondents, including the use of automated collection techniques or other forms of information technology.

OMB control No. | Regulation title | Number of operators | Number of responses (percent) | Total annual burden hours
2137-0604 | Pipeline Integrity Management in High Consequence Areas Operators with more than 500 miles of Hazardous Liquid Pipeline | 71 | 0.85 | 3
2137-0605 | Pipeline Integrity Management in High Consequence Areas Operators with less than 500 miles of Hazardous Liquid Pipeline | 192 | 0.85 | 9
2137-0610 | Pipeline Integrity Management in High Consequence Areas Gas Transmission Pipeline Operators | 721 | 0.85 | 34
Totals |  | 1,166 | N/A | 46

Issued in Washington, DC, on July 6, 2007.
Florence L. Hamn,
Director of Regulations, Office of Pipeline Safety.

[FR Doc. E7-13764 Filed 7-16-07; 8:45 am]

BILLING CODE 4910-60-P